DEPARTMENT OF AGRICULTURE

Forest Service

Dixie National Forest; Utah; Brian Head Resort Expansion Environmental Impact Statement

AGENCY: Forest Service, Agriculture (USDA).

ACTION: Notice of intent to prepare an environmental impact statement.

SUMMARY: The USDA Forest Service is preparing an environmental impact statement (EIS) for the Brian Head Resort Expansion. Brian Head Resort Recreation 1, LLC (BHR) has submitted a proposal to the Dixie National Forest (DNF) to pursue approval of projects identified within BHR's 2023 Master Development Plan (MDP). The DNF is considering this proposal and is initiating the preparation of an EIS to analyze and disclose the potential environmental effects of the proposed projects (proposed action). The Planning Administrative Reviews & Litigation System number is 65965.

DATES: Comments concerning the scope of the analysis must be received by August 29, 2025. This environmental analysis will follow the USDA regulations implementing NEPA (as described in the interim final rule effective July 3, 2025) and the timing of the subsequent steps of this EIS process shall be available at https://www.fs.usda.gov/r04/dixie/projects/65965, with the final EIS expected to be released two years from publication of the NOI.

ADDRESSES: Comments should be submitted through the public participation portal on the project web page: https://www.fs.usda.gov/r04/dixie/projects/65965. To submit comments using the web form on the project web page select “Get Connected” under “Project Summary” on the project's web page. Then select “Comment/Object on Project” to be directed to the comment web form. Written comments can also be sent to: Kevin Wright, Forest Supervisor, c/o Matt Loscalzo, Project Manager, Dixie National Forest; 820 N Main Street, Cedar City, UT 84721 820 N Main Street, Cedar City, UT 84721, or via facsimile to (435) 865-3791. Please use the subject line “Brian Head Resort Expansion Environmental Impact Statement.” A full description of the project purpose and need and proposed action can be found on the project web page at: https://www.fs.usda.gov/r04/dixie/projects/65965.

FOR FURTHER INFORMATION CONTACT: Matt Loscalzo, Project Manager, by email at matthew.loscalzo@usda.gov, (720) 908-1213. Individuals who use telecommunications devices for the hearing impaired may call 711 to reach the Telecommunications Relay Service, 24 hours a day, every day of the year, including holidays.

SUPPLEMENTARY INFORMATION:

Purpose and Need for Action

The purpose of, and need for, Forest Service action is to respond to an application submitted by BHR under the National Forest Ski Area Permit Act of 1986 and Ski Area Recreational Opportunity Act of 2011 to implement projects from their accepted MDP. The 1986 Land and Resource Management Plan for the Dixie National Forest (DNF LRMP) identifies providing increased downhill skiing capacity and working with the private sector to help meet future recreation demand as desired future conditions for recreation on the DNF. The Forest Service has identified a need to meet the demand for increased downhill skiing capacity working through this private sector application from BHR. The Forest Service will use the EIS to inform the decision regarding: whether to approve, in whole or in part, BHR's application; the selection of a preferred alternative; determining appropriate environmental protection measures; and establishing, if necessary, what terms and conditions should apply with the issuance of an amended special use permit (SUP).

BHR has identified a need to add a variety of recreational opportunities and amenities to address shortcomings in resort capacity, access, and operations to meet the demands of a growing, recreational-focused region and state. BHR's overall purpose of the proposed action is to provide an improved and unique guest experience that meets the current and expected population growth, and associated demand for outdoor recreation in Utah and the southwest region, which cannot be accomplished within BHR's existing operational and SUP boundary. A full description of BHR's Purpose and Need can be found at: https://www.fs.usda.gov/r04/dixie/projects/65965.

Proposed Action

The proposed action includes: the expansion of the existing special use permit (SUP) area; installation of new lifts; construction (tree and stump removal and grading) of new ski trails; construction of new on-mountain facilities; installation of new snowmaking facilities; installation of new utilities; construction of new administrative roads and improvements to existing roadbeds to access new infrastructure (such as upper lift terminals); re-routing of an existing snowmobile route; and hazard tree removal and post-fire treatment in areas impacted by the 2017 Brian Head Fire.

A full description of the proposed action on National Forest System lands and adjacent private land can be found at: https://www.fs.usda.gov/r04/dixie/projects/65965.

If necessary, the need for potential amendment(s) of the DNF LRMP, as amended, in the areas of the proposed SUP boundary adjustment will be identified and disclosed in the EIS. The purpose and need of the potential plan amendment(s) would be to ensure consistency of the project with the DNF LRMP 's scenery and recreation management settings. The scope of the potential amendment may be project-specific or plan-level.

Expected Impacts

The proposed action has the potential to result in impacts to various resources including water, cultural resources, scenery, recreation, traffic/transportation, wildlife, and socioeconomics. Specific issues to be analyzed include: potential impacts to hydrologic and/or groundwater resources from additional water use for expanded snowmaking operations; potential impacts to dark night skies, specifically to the Cedar Breaks National Monument (CBNM), a designated International Dark Sky Park; the potential for new ski area infrastructure to adversely affect cultural resources and the scenic resource on DNF-managed lands (which will be analyzed for consistency with the Scenic Integrity Objectives [SIOs] in the DNF LRMP); the potential to alter the quality and variety of recreation opportunities available within and proximate to the proposed SUP expansion areas (which will be analyzed for consistency with the DNF LRMP's Recreation Opportunity Spectrum [ROS] designation of Semi-Primitive Non-Motorized, Semi-Primitive Motorized, and Roaded Natural) as well as potential to impact permitted snowmobile operations for a neighboring small business; the potential to increase traffic on Highway 143 resulting from an increase to BHR's comfortable carrying capacity; the potential to negatively impact northern goshawk nesting and Post Fledgling Area habitat, crucial summer calving habitat for Rocky Mountain elk, crucial summer fawning habitat for mule deer, habitat for American pika, and habitat for the Brian Head Mountain snail within and adjacent to the project area; and the potential to affect adjacent communities resulting from changes in employment, tourism revenue, and housing in Iron County.

Lead and Cooperating Agencies

The Forest Service is the lead federal agency for NEPA compliance, review, and approval concerning the EIS. The National Park Service/CBNM will be a cooperating agency to assist in the NEPA analysis for dark skies and water resources.

Responsible Official

The responsible official is Kevin Wright, Forest Supervisor, Dixie National Forest.

Scoping Comments and the Objection Process

This notice of intent initiates the scoping process, which guides the development of the EIS. In this process the Agency is requesting comments on potential alternatives and impacts, and identification of any relevant information, studies or analyses of any kind concerning impacts affecting the quality of the human or natural environment. Further, three public open house meetings will be held during this comment period. These open houses will be held in the Town of Brian Head, the City of Parowan, and Cedar City. Details of the dates, times, and locations of these meetings can be found on the project's web page: https://www.fs.usda.gov/r04/dixie/projects/65965. Representatives from the DNF and BHR will be present at these scoping open houses to answer questions and provide additional information on this project.

It is important that reviewers provide their comments at such times and in such a manner that they are useful to the agency's preparation of the final EIS; therefore, comments must be provided prior to the close of the comment period and should clearly articulate the reviewer's concerns and contentions. Commenting during scoping and any other designated opportunity to comment provided by the Responsible Official as prescribed by the applicable regulations will also govern eligibility to object once the final EIS and draft Record of Decision has been published. Comments received in response to this solicitation, including names and addresses of those who comment, will be part of the public record for this proposed action. Comments submitted anonymously will be accepted and considered; however, they will not be used to establish eligibility for the objection process.

Objections will be accepted only from those who have previously submitted specific written comments regarding the proposed project and any project-specific amendment(s) during scoping or other designated opportunity for public comment in accordance with 36 CFR 218.5(a). Issues raised in objections must be based on previously submitted timely, specific written comments regarding the proposed project unless based on new information arising after designated comment opportunities.

If the potential amendment(s) is plan-level in scope then the amendment decision would be subject to the plan objection process of 36 CFR 219, Subpart B. Only those individuals and entities who submit substantive formal comments related to the potential plan amendment(s) during the opportunities for public comment as provided in 36 CFR 219, Subpart A may file a plan amendment(s) objection. The burden is on the objector to demonstrate compliance with requirements for objection (36 CFR 219.53).

Permits, Licenses or Other Authorizations Required

• Forest Service SUP.

• Other permits as identified through scoping and the EIS analysis process.

Nature of Decision To Be Made

Given the purpose and need, the responsible official will review the proposed action, the alternatives, and the environmental consequences to decide the following:

• Whether to approve, approve with modifications, or deny BHR's application to amend their SUP for the adjustment of BHR's SUP area, the associated projects within the proposed SUP areas, and the projects within BHR's existing SUP boundary;

• The selection of a preferred alternative; and

• Whether to prescribe conditions needed for the protection of the environment on NFS lands.

• Whether or not to approve any forest plan amendments necessary as identified in the EIS to bring the project in compliance with the DNF LRMP. These decisions would be made in the record of decision, which would be issued following the publication of a final EIS and completion of the Forest Service objection process (36 CFR part 218, subparts A and B, and 36 CFR 219, Subpart B if necessary).

Substantive Requirements

When proposing a potential forest plan amendment, regulation36 CFR 219.13(b)(2) requires the Responsible Official to identify which specific substantive requirements (36 CFR 219.8 through 219.11) are likely to be directly affected and therefore applicable to the potential amendments. The substantive requirements that are likely directly related to the purpose or effects of amendments to the forest plan scenery and recreation management settings are 36 CFR 219.8(b), 36 CFR 219.10(a), and 36 CFR 219.10(b).

Beattra Wilson,
Associate Deputy Chief, National Forest System.

[FR Doc. 2025-13252 Filed 7-14-25; 8:45 am]

BILLING CODE 3411-15-P